DEPARTMENT OF DEFENSE

Office of the Secretary

[DoD-2007-OS-0033]

U.S. Court of Appeals for the Armed Forces Proposed Rules of Changes

Correction

In notice document 07-1789 beginning on page 18210 in the issue of Wednesday, April 11, 2007, make the following correction:

On page 18210, in the second column, under DATES, in the last line, “May 2007” should read “May 11, 2007”.

[FR Doc. C7-1789 Filed 4-13-07; 8:45 am]

BILLING CODE 1505-01-D

DEPARTMENT OF DEFENSE

Department of the Navy

[USD-2007-0024]

Privacy Act of 1974 System of Records

Correction

In notice document 07-1793 beginning on page 18216 in the issue of Wednesday, April 11, 2007, make the following correction:

On page 18216, in the second column, under DATES, in the second line, “May 2007” should read “May 11, 2007”.

[FR Doc. C7-1793 Filed 4-13-07; 8:45 am]

BILLING CODE 1505-01-D

ENVIRONMENTAL PROTECTION AGENCY

[FRL-8295-9]

Draft Operator Training Grant Guidelines for States; Solid Waste Disposal Act, Subtitle I, as Amended by Title XV, Subtitle B of the Energy Policy Act of 2005

Correction

In notice document E7-6616 beginning on page 17896 in the issue of Tuesday, April 10, 2007, make the following correction:

On page 17901, the photographed figure at the bottom of the page is reprinted below:

[FR Doc. Z7-6616 Filed 4-13-07; 8:45 am]

BILLING CODE 1505-01-D